DELAWARE RIVER BASIN COMMISSION

Notice of Commission Meeting and Public Hearing

Notice is hereby given that the Delaware River Basin Commission will hold an informal conference followed by a public hearing on Thursday, May 10, 2012. The hearing will be part of the Commission's regularly scheduled business meeting. The conference session and business meeting both are open to the public and will be held at the Commission's office building, located at 25 State Police Drive, West Trenton, New Jersey.

The morning conference session will begin at 11 a.m. and will include a presentation on PCB reductions in the Delaware Estuary and resolutions recognizing the contributions of Gary Paulachok, former Deputy Delaware River Master, U.S. Geological Survey, and William Douglass, former Executive Director of the Upper Delaware Council, both of whom recently retired.

Items for Public Hearing. The subjects of the public hearing to be held during the 1:30 p.m. business meeting on May 10, 2012 include draft dockets for which the names and brief descriptions will be posted on the Commission's Web site at www.drbc.net at least 10 days prior to the meeting date and complete draft dockets will be posted on the Web site ten days prior to the meeting date. Additional public records relating to the dockets may be examined at the Commission's offices. Please contact William Muszynski at 609-883-9500, extension 221, with any docket-related questions.

In addition to the hearings on draft dockets, a public hearing also will be held during the 1:30 p.m. business meeting on proposed resolutions to: (a) Adopt the Commission's annual budget for the fiscal year ending June 30, 2013; and (b) approve election of the Commission Chair, Vice Chair and Second Vice Chair for fiscal year 2013.

Other Agenda Items. Other agenda items include resolutions (a) authorizing participation in the New Jersey State Health Benefits Program for SHBP Dental Plan Coverage; (b) authorizing the Executive Director to terminate a purchase order agreement with one firm and retain another to complete the design of the Ruth Patrick River Garden; and (c) authorizing the Executive Director to execute an agreement for the preparation of an actuarial evaluation for the Commission's post-retirement benefits in accordance with Government Accounting Standards Board Statement No. 45 (“GASB 45”). The standard business meeting items also will be addressed, including: adoption of the Minutes of the Commission's March 7, 2012 business meeting, announcements of upcoming meetings and events, a report on hydrologic conditions, reports by the Executive Director and the Commission's General Counsel, and a public dialogue session.

Opportunities to Comment. Individuals who wish to comment for the record on a hearing item or to address the Commissioners informally during the public dialogue portion of the meeting are asked to sign up in advance by contacting Ms. Paula Schmitt of the Commission staff, at paula.schmitt@drbc.state.nj.us or by phoning Ms. Schmitt at 609-883-9500 ext. 224. Written comment on items scheduled for hearing may be submitted in advance of the meeting date to: Commission Secretary, P.O. Box 7360, 25 State Police Drive, West Trenton, NJ 08628; by fax to Commission Secretary, DRBC at 609-883-9522 or by email to paula.schmitt@drbc.state.nj.us. Written comment on dockets should also be furnished directly to the Project Review Section at the above address or fax number or by email to william.muszynski@drbc.state.nj.us.

Individuals in need of an accommodation as provided for in the Americans with Disabilities Act who wish to attend the informational meeting, conference session or hearings should contact the Commission Secretary directly at 609-883-9500 ext. 203 or through the Telecommunications Relay Services (TRS) at 711, to discuss how we can accommodate your needs.

Agenda Updates. Note that conference items are subject to change and items scheduled for hearing are occasionally postponed to allow more time for the Commission to consider them. Please check the Commission's Web site, www.drbc.net, closer to the meeting date for changes that may be made after the deadline for filing this notice.

Dated: April 19, 2012.
Pamela M. Bush,
Esquire, Commission Secretary.

[FR Doc. 2012-9947 Filed 4-24-12; 8:45 am]

BILLING CODE 6360-01-P